DEPARTMENT OF HOMELAND SECURITY

Coast Guard

[USCG-2003-16327]

Information Collections Under Review by the Office of Management and Budget (OMB): 1625-0074, 1625-0041, 1625-0064, 1625-0049, and 1625-0007

AGENCY: Coast Guard, DHS.

ACTION: Request for comments.

SUMMARY: In compliance with the Paperwork Reduction Act of 1995, this request for comments announces that the Coast Guard has forwarded five information collection reports (ICRs) to the Office of Information and Regulatory Affairs (OIRA) of the OMB for review and comment. These ICRs are: (1) 1625-0074, Direct User Fees for Inspection or Examination of U.S. and Foreign Commercial Vessels; (2) 1625-0041, International Oil Pollution Prevention Certificate; (3) 1625-0064, Plan Approval and Records for Subdivision and Stability Regulations — Title 46 CFR Subchapter S; (4) 1625-0049, Waterfront Facilities Handling Liquefied Natural Gas (LNG) and Liquefied Hazardous Gas (LHG); and (5) 1625-0007, Characteristics of Liquid Chemicals Proposed for Bulk Water Movement. Our ICRs describe the information we seek to collect from the public. Review and comment by OIRA ensure that we impose only paperwork burdens commensurate with our performance of duties.

DATES: Please submit comments on or before March 5, 2004.

ADDRESSES: To make sure that your comments and related material do not enter the docket [USCG-2003-16327] more than once, please submit them by only one of the following means:

(1)(a) By mail to the Docket Management Facility, U.S. Department of Transportation, room PL-401, 400 Seventh Street SW., Washington, DC 20590-0001.

(b) By mail to OIRA, 725 17th Street NW., Washington, DC 20503, to the attention of the Desk Officer for the Coast Guard. Caution: Because of recent delays in the delivery of mail, your comments may reach the Facility more quickly if you choose one of the means described below.

(2)(a) By delivery to room PL-401 at the address given in paragraph (1)(a) above, between 9 a.m. and 5 p.m., Monday through Friday, except Federal holidays. The telephone number is 202-366-9329.

(b) By delivery to OIRA, at the address given in paragraph (1)(b) above, to the attention of the Desk Officer for the Coast Guard.

(3) By fax to (a) the Facility at 202-493-2251 and

(b) OIRA at 202-395-5806, or e-mail to OIRA at oira_docket@omb.eop.gov attention: Desk Officer for the Coast Guard.

(4)(a) Electronically through the Web Site for the Docket Management System at http://dms.dot.gov.

(b) OIRA does not have a website on which you can post your comments.

The Facility maintains the public docket for this notice. Comments and material received from the public, as well as documents mentioned in this notice as being available in the docket, will become part of this docket and will be available for inspection or copying at room PL-401 (Plaza level), 400 Seventh Street SW., Washington, DC, between 9 a.m. and 5 p.m., Monday through Friday, except Federal holidays. You may also find this docket on the Internet at http://dms.dot.gov.

Copies of the complete ICRs are available for inspection and copying in public dockets. They are available in docket USCG-2003-16327 Docket Management Facility between 10 a.m. and 5 p.m., Monday through Friday, except Federal holidays; for inspection and printing on the internet at http://dms.dot.gov; and for inspection from the Commandant at CG-611, U.S. Coast Guard, room 6106, 2100 Second Street SW., Washington, DC, between 10 a.m. and 4 p.m., Monday through Friday, except Federal holidays.

FOR FURTHER INFORMATION CONTACT: Ms. Bernice Parker-Jones, Office of Information Management, 202-267-2326, for questions on this document; Ms. Andrea M. Jenkins, Program Manager, U.S. Department of Transportation, 202-366-0271, for questions on the docket.

SUPPLEMENTARY INFORMATION:

Public Participation and Request for Comments

We encourage you to participate in this request for comment by submitting comments and related materials. We will post all comments received, without change, to http://dms.dot.gov, and they will include any personal information you have provided. We have an agreement with DOT to use the Docket Management Facility. Please see the paragraph on DOT's “Privacy Act” below.

Submitting comments: If you submit a comment, please include your name and address, identify the docket number for this request for comment [USCG-2003-16327], indicate the specific section of this document to which each comment applies, and give the reason for each comment. You may submit your comments and material by electronic means, mail, fax, or delivery to the Docket Management Facility at the address under ADDRESSES; but please submit your comments and material by only one means. If you submit them by mail or delivery, submit them in an unbound format, no larger than 8½ by 11 inches, suitable for copying and electronic filing. If you submit them by mail and would like to know that they reached the Facility, please enclose a stamped, self-addressed postcard or envelope. We will consider all comments and material received during the comment period. We may attempt to adjust paperwork burdens to be more commensurate with our performance of duties in view of them.

Viewing comments and documents: To view comments, as well as documents mentioned in this preamble as being available in the docket, go to http://dms.dot.gov at any time and conduct a simple search using the docket number. You may also visit the Docket Management Facility in room PL-401 on the Plaza level of the Nassif Building, 400 Seventh Street SW., Washington, DC, between 9 a.m. and 5 p.m., Monday through Friday, except Federal holidays.

Privacy Act: Anyone can search the electronic form of all comments received in dockets by the name of the individual submitting the comment (or signing the comment, if submitted on behalf of an association, business, labor union, etc.). You may review the Privacy Act Statement of DOT in the Federal Register published on April 11, 2000 (65 FR 19477), or you may visit http://dms.dot.gov.

Regulatory History

This request constitutes the 30-day notice required by OIRA. The Coast Guard has already published the 60-day notice (68 FR 61456, October 28, 2003) required by OIRA. That notice elicited no comments.

Request for Comments

The Coast Guard invites comments on the proposed collections of information to determine whether the collections are necessary for the proper performance of the functions of the Department. In particular, the Coast Guard would appreciate comments addressing: (1) The practical utility of the collection; (2) the accuracy of the Department's estimated burden of the collection; (3) ways to enhance the quality, utility, and clarity of the information that is the subject of the collection; and (4) ways to minimize the burden of collection on respondents, including the use of automated collection techniques or other forms of information technology.

Comments, to DMS or OIRA, must contain the OMB Control Number of the ICRS addressed. Comments to DMS must contain the docket number of this request, USCG-2003-16327. Comments to OIRA are best assured of having their full effect if OIRA receives them 30 or fewer days after the publication of this request.

Information Collection Requests

1. Title: Direct User Fees for Inspection or Examination of U.S. and Foreign Commercial Vessels.

OMB Control Number: 1625-0074.

Type of Request: Extension of a currently approved collection.

Affected Public: Owners of vessels.

Form: This collection of information does not require the public to fill out forms, but does require the submittal of information to the Coast Guard in written format.

Abstract: The Omnibus Reconciliation Act of 1990, which amended 46 U.S.C. 2110, requires the Coast Guard to collect user fees from inspected vessels. The information collected allows Coast Guard to properly collect and manage the fees.

Burden: The estimated burden is 3,167 hours a year.

2. Title: International Oil Pollution Prevention Certificate.

OMB Control Number: 1625-0041.

Type of Request: Extension of a currently approved collection.

Affected Public: Owners and Operators of Vessels.

Forms: CG-5352, CG-5352A and CG-5352B.

Abstract: The information collected aids in the prevention of pollution from ships. An International Oil Pollution Prevention Certificate and other records serve to verify vessels' compliance with certain international and domestic rules on shipping.

Burden: The estimated burden is 6,616 hours a year.

3. Title: Plan Approval and Records for Subdivision and Stability Regulations—Title 46 CFR Subchapter S.

OMB Control Number: 1625-0064.

Type of Request: Extension of a currently approved collection.

Affected Public: Owners, operators and masters of vessels.

Form: This collection of information does not require the public to fill out forms, but does require the submittal of information to the Coast Guard in written format.

Abstract: This collection of information requires owners, operators, or masters of certain inspected vessels to obtain and/or post various documents as part of the Coast Guard commercial vessel safety program.

Burden: The estimated burden is 6,474 hours a year.

4. Title: Waterfront Facilities Handling Liquefied Natural Gas (LNG) and Liquefied Hazardous Gas (LHG).

OMB Control Number: 1625-0049.

Type of Request: Extension of a currently approved collection.

Affected Public: Owners and operators of waterfront facilities that transfer LNG or LHG.

Form: This collection of information does not require the public to fill out forms, but does require the submittal of information to the Coast Guard in written format.

Abstract: Liquefied Natural Gas and other Liquefied Hazardous Gases present a risk to the public when handled at waterfront facilities. These requirements are intended to prevent or mitigate the result of accidental releases at waterfront facilities. The requirements are necessary to promote and verify compliance with safety standards.

Burden: The estimated burden is 3,540 hours a year.

5. Title: Characteristics of Liquid Chemicals Proposed for Bulk Water Movement.

OMB Control Number: 1625-0007.

Type of Request: Extension of a currently approved collection.

Affected Public: Manufacturers of Chemicals

Form: CG-4355.

Abstract: Chemical manufacturers submit chemical data to the Coast Guard. The Coast Guard evaluates the information for hazardous properties of the chemical to be shipped via tank vessels. A determination is made as to the kind and degree of precaution needed to protect the vessel and its contents.

Burden: The estimated burden is 108 hours a year.

Dated: January 28, 2004.
Nathaniel S. Heiner,
Acting Assistant Commandant for Command, Control, Communications, Computers and Information Technology.

[FR Doc. 04-2220 Filed 2-3-04; 8:45 am]

BILLING CODE 4910-15-P